DEPARTMENT OF DEFENSE

Department of the Navy

[Docket ID USN-2014-0021]

Privacy Act of 1974; System of Records

AGENCY: Department of the Navy, DoD.

ACTION: Notice to alter a system of records.

SUMMARY: The Department of the Navy proposes to alter the system of records notice, NM-05724-1, “Fleet Hometown News System (FHNS) Records” in its inventory of record systems subject to the Privacy Act of 1974, as amended. This system will be used to collect, maintain and generate public awareness of the accomplishments of Navy, Marine Corps, Coast Guard, Army, Air Force and government civilian personnel by distributing news releases and photographs to the hometown news media of individual service members or civilian employees. Hometown news media include, but are not limited to, newspapers, radio and television stations, and college/university alumni publications throughout the United States and its territories and their respective Web sites. Release of this information is done with the individual's full cooperation and written consent.

DATES: Comments will be accepted on or before October 27, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or from the Defense Privacy and Civil Liberties Web site at http://dpclo.defense.gov/.

The proposed system report, as required by 5 U.S.C. 552a(r) of the Privacy Act of 1974, as amended, was submitted on August 13, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: September 22, 2014.
Aaron Siegel,
Alternate OSD Federal Register Liaison Officer, Department of Defense.

NM-05724-1

Fleet Hometown News System (FHNS) Records (May 11, 2012, 77 FR 27745)

Changes:

System identifier: Delete entry and replace with “NM05724-1”

* * * * *

Categories of records in the system:

Delete entry and replace with “Information submitted includes: full name, signature, rank, gender, race/ethnicity, marital status, date entered service, branch of service, duty status, command name, command mailing address, date reported, duty to which assigned/job title, designator/warfare qualifications, spouse's first name, father's name and address, mother's name and address, father-in-law's name and address, mother-in-law's name and address, hometown and state, high school and college/university complete names, graduation dates, degrees received, city, state, and zip codes, and promotions, awards, photographs, and significant career events.”

* * * * *

[FR Doc. 2014-22863 Filed 9-25-14; 8:45 am]

BILLING CODE 5001-06-P